Memorandum of April 15, 2025

Preventing Illegal Aliens From Obtaining Social Security Act Benefits

Memorandum for the Attorney General[,] the Secretary of Labor[,] the Secretary of Health and Human Services[,] the Secretary of Homeland Security[,] the Commissioner of Social Security[, and] the Inspector General of the Social Security Administration

By the authority vested in me as President by the Constitution and the laws of the United States of America, I hereby direct:

Section 1. Responsibility for Determining Eligibility for Public Benefits. (a) As set forth in Executive Order 14218 of February 19, 2025 (Ending Taxpayer Subsidization of Open Borders), both Federal law (title IV of the Personal Responsibility and Work Opportunity Reconciliation Act of 1996 (Public Law 104-193)) and principles of sound administration demand that taxpayer-funded benefits be provided only to eligible persons and not encourage or reward illegal immigration to the United States. This interest is especially compelling with respect to Social Security Act benefits, which demand strict policing of fraud, waste, and abuse to ensure future eligible individuals receive the benefits to which they are entitled. Consequently, this memorandum gives additional direction for implementing Executive Order 14218 with regard to Social Security Act programs.

(b) The Secretary of Labor, the Secretary of Health and Human Services, and the Commissioner of Social Security, in consultation with the Secretary of Homeland Security as necessary, shall take all reasonable measures, consistent with applicable law, to ensure ineligible aliens are not receiving funds from Social Security Act programs. Such measures shall include promulgating any necessary guidance or regulations regarding Social Security Act funds and, to the extent appropriate and consistent with law, prioritizing civil or administrative enforcement actions against States, localities, or other similar grantees or subgrantees that do not take adequate measures to verify eligibility, stop payments to deceased or otherwise ineligible payees, or otherwise prevent ineligible aliens from receiving funds from Social Security Act programs.

(c) The Attorney General and the Commissioner of Social Security shall cooperate to detail and credential such Special Assistant United States Attorneys as are necessary to expand the Social Security Administration's (SSA) full-time fraud prosecutor program to at least 50 United States Attorney Offices by October 1, 2025. Likewise, the Attorney General and the Secretary of Health and Human Services shall cooperate to establish a similar fraud-prosecutor program utilizing Special Assistant United States Attorneys with regard to programs administered by the Centers for Medicare and Medicaid Services, which shall operate in at least 15 United States Attorney Offices by October 1, 2025. Detailees in both programs shall emphasize prosecutions of identity theft and beneficiary-side fraud. To the extent feasible, the Attorney General and the Secretary of Health and Human Services or the Commissioner of Social Security, as applicable, shall prioritize assigning new detailees in both programs to the 10 United States Attorney Offices whose jurisdictions encompass the largest known populations of illegal aliens, as determined by the Secretary of Homeland Security.

(d) The risk of beneficiary- or recipient-side fraud and abuse by illegal aliens shall also be reduced through other program-integrity measures.

(i) The Inspector General of the SSA noted in a July 2023 audit that death information regarding millions of deceased number holders is missing from the agency's files, which obstructs efforts to prevent and detect fraud and improper payments across the Government with respect to executive departments and agencies that rely on SSA's information. The Commissioner of Social Security shall fully implement the recommendations in the Inspector General of the SSA's Audit Report A-06-21-51022. The Secretary of Health and Human Services shall cooperate fully with such implementation.

(ii) The same audit report revealed that the SSA does not investigate or attempt to resolve reports of earnings received by individuals age 100 or older if the SSA has not recorded death information for such individuals, even when the reported wage-earner does not match the name or other personally identifiable information in SSA records, which may indicate identity theft, illegal work, tax evasion, or other unlawful activity. The Commissioner of Social Security shall refer promptly to the Inspector General of the SSA all earnings reports for persons age 100 or older when the purported wage-earner's name does not match SSA's files. The Inspector General of the SSA shall investigate such matters as appropriate and refer matters to the Department of Justice, other executive departments and agencies, or local prosecutors as warranted.

(iii) Finally, within 60 days of the date of this memorandum, the Commissioner of Social Security shall review whether, and under what conditions, SSA should resume pursuing civil monetary penalties under section 1129 of the Social Security Act. If the Commissioner of Social Security determines that resumption is warranted, he shall either resume such program immediately or pursue regulatory or policy changes that would allow its resumption in a timely manner.

Sec. 2. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Commissioner of Social Security is authorized and directed to publish this memorandum in the Federal Register.

THE WHITE HOUSE,

Washington, April 15, 2025

[FR Doc. 2025-06840

Filed 4-17-25; 8:45 am]

Billing code 4191-02-P